DEPARTMENT OF DEFENSE

Department of the Army; Corps of Engineers

Intent To Prepare a Draft Supplemental Environmental Impact Statement/Environmental Impact Report for the Yuba River Basin Project, Yuba County, CA

AGENCY: Department of the Army, U.S. Army Corps of Engineers, DoD.

ACTION: Notice of intent.

SUMMARY: In accordance with the National Environmental Policy Act (NEPA) and the California Environmental Quality Act (CEQA), the U.S. Army Corps of Engineers (Corps), Sacramento District, is preparing a Draft Supplemental Environmental Impact Statement/Environmental Impact Report (SEIS/EIR) to evaluate modifications to the previously authorized plan to reduce flood damages in the lower Yuba River Basin, part of the Feather River Basin, and the city of Marysville in Yuba County, California. The modifications are needed to resolve previously unknown levee foundation problems in portions of the authorized project, thereby ensuring the level of flood protection previously planned. The basic study authority for the Yuba River Basin study was provided under the Flood Control Act of 1962.

ADDRESSES: Send written comments and suggestions concerning this study to Ms. Kim Stevens, U.S. Army Corps of Engineers, Sacramento District, Attn: Planning Division (CESPK-PD-R), 1325 J Street, Sacramento, California 95814. Requests to be placed on the mailing list should also be sent to this address.

FOR FURTHER INFORMATION CONTACT: Ms. Kim Stevens, E-mail at Kim.L.Stevens@usace.army.mil, telephone (916) 557-7332, or fax (916) 557-7856.

SUPPLEMENTARY INFORMATION: 1. Public Involvement: The Yuba River Basin project will be coordinated between Federal, State, and local governments; local stakeholders; special interest groups; and any other interested individuals and organizations. The Corps will announce availability of the draft supplemental document in the Federal Register and other media, and will provide the public, organizations, and agencies with an opportunity to submit comments, which will be addressed in the Final SEIS/EIR. A 45-day public review period will be provided for individuals and agencies to review and comment on the SEIS/EIR. All interested parties should respond to this notice and provide a current address if they wish to be notified of the SEIS/EIR circulation.

2. Project Information: The Yuba River Basin is located in western Yuba County about 50 miles north of Sacramento. The project focuses on approximately 21 miles of levees along the Yuba and Feather Rivers in the vicinity of Marysville, California. The Yuba River Basin project area is divided into three reaches: reach 1—Yuba River/Feather River; reach 2—Feather River; and reach 3—Marysville ring levee.

The Feasibility Report and Final EIS/EIR were completed in April 1998. Congress authorized the project in the Water Resources Development Act of 1999, and the Record of Decision was signed in June 2000. The authorized project included specific levee modifications on 6.1 miles of the left bank of the Yuba River upstream of the confluence with the Feather River; 10 miles of levee on the left bank of the Feather River downstream of the confluence of the Yuba River; and 5 miles of the Marysville ring levee. The levee modification work as authorized was intended to bring the level of protection for these levees up to about a 200-year level of protection.

Since the final Yuba River Basin project was authorized, geotechnical investigations and new hydrology have identified previously unknown levee foundation problems in portions of the specifically authorized project. Because flooding is still a significant problem for the affected communities along the Yuba and Feather Rivers, the State of California Reclamation Board has requested that the Corps initiate a reevaluation of the project.

3. Proposed Action: The proposed action would be limited to a reevaluation of the elements of the authorized project and the design changes required to provide the level of protection previously planned.

4. Alternatives: Potential alternatives to reduce flood damages include: (1) No Action, (2) Authorized Project, and (3) Proposed Project. Under the Authorized Project, no modifications would be made to the features of alternative 3 as described in the 1998 Feasibility Report and Final EIS/EIR. Under the Proposed Project, several modifications would be made to the Authorized Project, including deeper slurry walls, deleting some berms, installing some new slurry walls, increasing some berm widths, adding impervious fill and drain blankets to the levees, relocating slurry walls from the levee toe to crown, and reshaping some levees.

Dated: February 24, 2004.
Michael J. Conrad, Jr.,
Colonel, Corps of Engineers, District Engineer.

[FR Doc. 04-5970 Filed 3-16-04; 8:45 am]

BILLING CODE 3710-E7-M